DEPARTMENT OF THE INTERIOR

Bureau of Land Management

[LLNVL0000-L51100000-GN0000-LVEMF2105850-21X MO #4500151979]

Notice of Availability of the Final Environmental Impact Statement for the Robinson Mine Plan of Operations Amendment, White Pine County, Nevada

AGENCY: Bureau of Land Management, Interior.

ACTION: Notice of availability.

SUMMARY: In accordance with the National Environmental Policy Act of 1969, as amended (NEPA), and the Federal Land Policy and Management Act of 1976, as amended (FLPMA), the Bureau of Land Management (BLM) Ely District (EYDO), Nevada, has prepared a Final Environmental Impact Statement (EIS) for the Robinson Mine Plan of Operations Amendment project and by this notice is announcing its availability.

DATES: The BLM will not issue a final decision on the proposal for a minimum of 30 days after the Environmental Protection Agency publishes its notice of availability of the Robinson Mine Plan of Operations Amendment Final EIS DOI-BLM-NV-L060-2020-0008-EIS in the Federal Register.

ADDRESSES: Copies of Robinson Mine Plan of Operations Amendment and the Final EIS are available for public inspection on the internet at https://go.usa.gov/xvYad.

FOR FURTHER INFORMATION CONTACT: For questions about the proposed project contact Ms. Tiera Arbogast, Planning & Environmental Coordinator, Bureau of Land Management Ely District Office, telephone 775-289-1872, email: tarbogast@blm.gov, or address: 702 North Industrial Way, Ely, Nevada 89301. Persons who use a telecommunications device for the deaf (TDD) may call the Federal Relay Service (FRS) at 1-800-877-8339 to contact Ms. Arbogast during normal business hours. The FRS is available 24 hours a day, 7 days a week, to leave a message or question with the above individual. You will receive a reply during normal business hours. Normal business hours are 7:30 a.m. to 4:30 p.m., Monday through Friday, except for Federal holidays.

SUPPLEMENTARY INFORMATION: This document provides notice that the BLM EYDO, Ely, Nevada, has published a Final EIS for the Robinson Mine Plan of Operations Amendment project. The Robinson Mine is an 8,887-acre copper mining operation adjacent to Ruth, Nevada, seven miles west of Ely, Nevada, via U.S. Route 50.

KGHM Robinson Nevada Mining Company (KGHM Robinson) is proposing additional development at the Robinson Mine to extend mine life approximately four additional years beyond its currently anticipated permanent closure in 2024. To accomplish this, the company is proposing renewed mining in the eastern portions of its privately-owned Liberty Pit and an authorization by the BLM to access and develop two specific areas of nearby BLM-managed public land on which to dispose newly generated waste rock.

Under the BLM Preferred Alternative, KGHM Robinson would be permitted to develop approximately 260 acres of BLM-managed lands immediately south of the Robinson Mine to serve as the King Waste Rock Dump. This alternative would also include renewed dewatering and expanded mining operations in the eastern portions of KGHM Robinson's privately owned Liberty Pit area as well as approval to develop approximately 545 acres of BLM-managed land and 94 acres of private land adjacent to the Giroux Wash Tailings Storage Facility (TSF). These areas would be used for obtaining borrow material for the previously approved increase in height of the TSF main impoundment and perimeter dams, as well as for growth media (i.e., topsoil) storage for final reclamation. Approval of this alternative would result in an additional 793 acres of new disturbance on BLM-managed lands as well as disturbance on approximately 170 acres of KGHM Robinson-owned private lands, for a total of 963 acres of new surface disturbance. Active life of the Robinson Mine would be extended to 2028. The resource impacts for Alternative B were considered the most environmentally preferred when compared to impacts associated with cultural resources, geochemistry and groundwater, waste rock dump construction, and Greater sage-grouse habitat under other alternatives.

Under the No Action Alternative (Alternative A) the BLM would not approve the 2019 Robinson Mine Plan of Operations Amendment as written. Although KGHM Robinson could continue mining on its own private lands, no additional expansion onto BLM-managed public lands would be permitted. Without additional areas on which to dispose waste rock generated by continued mining, or the ability to obtain substantial additional volumes of soil to use in increasing the height of the primary impoundment and perimeter dams at the Giroux Wash Tailings Storage Facility (TSF), KGHM Robinson estimates that active operations at the Robinson Mine would cease in 2024.

The Reduced King Waste Rock Dump (WRD) and North Tripp WRD (Alternative C) would keep all project elements described in the 2019 Plan Amendment, including both the North Tripp and King WRDs; however, the allowable footprint of the King WRD would be reduced from the 260 acres under the BLM Preferred Alternative to 234 acres under this alternative. Specifically, Alternative C would eliminate all proposed King WRD development east of County Road 44A. The North Tripp WRD would be expanded onto approximately 102 acres of BLM-managed public lands and 67 private acres. As with the BLM Preferred Alternative, this alternative would include dewatering and renewed mining in the eastern portions of the Liberty Pit and development of approximately 545 acres of BLM-managed public land and 94 private acres adjacent to the Giroux Wash TSF. This alternative would result in approximately 869 acres of new disturbance on BLM-managed public lands and 237 acres of KGHM-owned private lands, for a total of approximately 1,106 acres of new surface disturbance. As with the BLM Preferred Alternative, mine life would be extended to 2028.

The Ruth East Backfill and Reduced King WRD Alternative (Alternative D) is similar to Alternative B, the BLM Preferred Alternative. Alternative D would include renewed dewatering and expanded mining operations in the eastern portions of the Liberty Pit as well as approval for KGHM Robinson to develop a total of approximately 639 acres of mixed public and private land adjacent to the Giroux Wash TSF. Alternative D, like Alternative C, would include the reduced 234-acre King WRD. Alternative D would not, however, include development of the North Tripp WRD. Rather, additional waste rock generated during continued mining would be disposed within approximately 160 acres of KGHM-owned lands within the Ruth East Pit. Approval of Alternative D would therefore result in approximately 767 acres of new surface disturbance on BLM-managed lands and 330 acres of KGHM-owned private lands, for a total of approximately 1,097 acres. As with the BLM Preferred Alternative and Alternative C, mine life would be extended to 2028.

The Notice of Intent for this project also included the BLM's proposal to amend the Ely District Resource Management Plan for Visual Resource Management classes. During scoping, however, the BLM determined that a Resource Management Plan amendment is not required, and therefore it is no longer being analyzed as part of this Final EIS. On September 14, 2020, the Council on Environmental Quality's revision to the NEPA Regulations went into effect. The final rule does not apply to the NEPA analysis for the Robinson Mine Plan of Operations Amendment, as it began prior to September 14, 2020.

A Notice of Availability of the Draft EIS for the proposed project was published in the Federal Register on December 4, 2020 (85 FR 78351). A virtual public meeting was held during the comment period. The BLM received 18 public comment documents during the 45-day comment period. The documents contained 56 unique and substantive comments which included concerns on mine closure and reclamation planning, greater sage grouse protection, general wildlife issues, mitigation measures, and geochemistry issues primarily related to pit lakes and assumed contaminant seepage. Comments on the Draft EIS received from the public and internal BLM review were considered and incorporated, as appropriate, into the Final EIS. Public comments resulted in corrections or the addition of clarifying text but did not change the proposed action.

The BLM has consulted with the Nevada State Historic Preservation Office (SHPO) on the Project in accordance with the 2014 State Protocol Agreement between the BLM and Nevada SHPO for Implementing the National Historic Preservation Act. The BLM has determined that the Project would cause adverse effects to eight historic properties and five unevaluated archaeological resources. The BLM and Nevada SHPO executed a Programmatic Agreement in 2016 to resolve adverse effects to cultural resources in the Robinson Nevada Mining Company Area of Potential Effect. The 2016 programmatic agreement outlines the process by which these resources will be evaluated and mitigated. BLM has consulted with SHPO on the mitigation measures for these sites and concurred upon the treatment. The specific actions necessary to resolve adverse effects to historic properties will be carried out prior to Project implementation.

The BLM has initiated ongoing consultation with Indian tribes on a government-to-government basis in accordance with Executive Order 13175 and other policies. Tribal concerns, including impacts on Indian trust assets and potential impacts to cultural resources, will be given due consideration and have been analyzed in the Final EIS.

(Authority: 40 CFR 1502)

Robbie McAboy,
District Manager, Ely District Office.

[FR Doc. 2021-16548 Filed 8-5-21; 8:45 am]

BILLING CODE 4310-HC-P